COMMITTEE FOR PURCHASE FROM PEOPLE WHO ARE BLIND OR SEVERELY DISABLED

Procurement List Additions And Deletions

AGENCY: Committee for Purchase From People Who Are Blind or Severely Disabled.

ACTION: Additions to and deletions from the Procurement List.

SUMMARY: This action adds products and services to the Procurement List that will be furnished by nonprofit agencies employing persons who are blind or have other severe disabilities, and deletes products and a service from the Procurement List previously furnished by such agencies.

DATES: Effective Date: September 19, 2011.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or email CMTEFedReg@AbilityOne.gov.

SUPPLEMENTARY INFORMATION:

Additions

On 6/17/2011 (76 FR 35415-35417), 6/24/2011 (76 FR 37069-37070), and 7/1/2011 (76 FR 38641-38642), the Committee for Purchase From People Who Are Blind or Severely Disabled published notices of proposed additions to the Procurement List.

After consideration of the material presented to it concerning capability of qualified nonprofit agencies to furnish the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 7045-00-NIB-0326—Glare Shield for iPhone

NSN: 7045-00-NIB-0327—Glare Shield for Blackberry Bold

NSN: 7045-00-NIB-0328—Glare Shield for Blackberry Storm2

NSN: 7045-00-NIB-0329—Universal PDA Glare Shield

NSN: 7045-00-NIB-0330—Privacy Shield for iPhone

NSN: 7045-00-NIB-0331—Privacy Shield for Blackberry Bold

NSN: 7045-00-NIB-0332—Privacy Shield for Blackberry Storm2

NSN: 7045-00-NIB-0333—Privacy Shield for PDA, Universal

NSN: 7045-00-NIB-0365—Privacy Shield for Blackberry Curve2

NSN: 7045-00-NIB-0366—Glare Shield for Blackberry Curve2

NSN: Wiscraft, Inc., Milwaukee, WI

Contracting Activity: General Services Administration, New York, NY

Coverage: B-List for the Broad Government Requirement as aggregated by the General Services Administration.

Duster Material, Easy Trap

NSN: 7920-00-NIB-0520—Roll, Large

NSN: 7920-00-NIB-0521—Dispenser Box, Large

NSN: 7920-00-NIB-0502—Roll, Standard Size

NSN: 7920-00-NIB-0503—Dispenser Box, Standard Size

NSN: New York City Industries for the Blind, Inc., Brooklyn, NY

Contracting Activity: General Services Administration, Fort Worth, TX

Coverage: B-List for the Broad Government Requirement as aggregated by the General Services Administration.

NSN: 7530-00-NIB-0982—Monthly Desk Planner, Wire Bound, Non-refillable, Black cover

NSN: 7530-00-NIB-1026—Weekly Planner Book, Dated, 5″ x 8″, Digital Camouflage

NSN: 7530-00-NIB-0986—Weekly Desk Planner, Wire Bound, Non-refillable, Black cover

NSN: 7530-00-NIB-0987—Daily Desk Planner, Wire bound, Non-refillable, Black Cover

NSN: 7530-00-NIB-1027—Monthly Wall Calendar, Dated, Jan-Dec, 8½ x 11″

NSN: 7510-00-NIB-1803—Wall Calendar, Dated, Wire Bound w/Hanger, 12″ x 17″

NSN: 7510-00-NIB-1804—Wall Calendar, Dated, Wire Bound w/hanger, 15.5″ x 22″

NSN: The Chicago Lighthouse for People Who Are Blind or Visually Impaired, Chicago, IL

Contracting Activity: General Services Administration, New York, NY

Coverage: A-List for the Total Government Requirement as aggregated by the General Services Administration.

NSN: 8465-01-580-1316—Hydration System, MOLLE Components, OCP

NSN: The Lighthouse for the Blind, Inc. (Seattle Lighthouse), Seattle, WA

NSN: 8465-01-580-1319—Carrier, Hydration System, MOLLE Components, Operation Enduring Freedom Camouflage Pattern (OCP) Multicam

NSN: Lions Services, Inc., Charlotte, NC

NSN: 8465-01-580-1303—Entrenching Tool Carrier, MOLLE Components, OCP

NSN: Dallas Lighthouse for the Blind, Inc., Dallas, TX

Contracting Activity: Department of the Army Research, Development, & Engineering Command, Natick, MA

Coverage: C-List for 100% of the requirement of the Department of the Army, as aggregated by the Department of the Army Research, Development, & Engineering Command, Natick, MA

Services

Service Type/Locations: Custodial Services, Campbell Industrial Buildings FTEC 977 & FTEC Trailer, Oahu, HI

Makalapa Buildings 16, 57, 81, 117, 200, 250, 251, 258, 259, 261, 346, 352, 388, 391, 396, 396A, 400, 402, 404, 405, 406, S1734, T9B3331 & Trailer D Oahu, HI

Marine Corps Base Hawaii (MCBH) Building 6470 & HANGAR 105 Kaneohe Bay, HI

Wheeler Army Air Base Building 107 Oahu, HI

Ford Island Buildings 77, 87, 170, 171, 459, 510, Hangar 133 & 167 NUWC Oahu, HI

Naval Computer and Telecommunications Area Master Station (NCTAMS), Pacific Buildings 105, 108, 114 & 261 Wahiawa, HI

Pearl City Peninsula Buildings 987, 989, 992 & 995 Oahu, HI

Pearl Harbor Complex Oahu, HI

NPA: Opportunities and Resources, Inc., Wahiawa, HI

Contracting Activity: DEPT OF THE NAVY, NAVFAC ENGINEERING COMMAND HAWAII, PEARL HARBOR, HI.

Service Type/Location: Contact Center Service DOT Federal Motor Carrier Safety Administration, New Entrant Contact Center, Washington, DC (Offsite Location: 507 Kent Street, Utica, NY)

NPA: Central Association for the Blind & Visually Impaired, Utica, NY

Contracting Activity: Department of Transportation, Federal Motor Carrier Safety Administration, Washington, DC.

Deletions

On 5/27/2011 (76 FR 30923-30924) and 6/24/2011 (76 FR 37069-37070), the Committee for Purchase From People Who Are Blind or Severely Disabled published notices of proposed deletions from the Procurement List.

After consideration of the relevant matter presented, the Committee has determined that the products and a service listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 46-48c) in connection with the products and service deleted from the Procurement List.

End of Certification

Accordingly, the following products and service are deleted from the Procurement List:

Products

Inkjet Printer Cartridge

NSN: 7510-01-555-6166—compatible with Epson Part No. T041020 Tri-color.

NPA: Alabama Industries for the Blind, Talladega, AL

Contracting Activity: General Services Administration, New York, NY

Line, Tent

NSN: 8340-00-252-2268

NSN: 8340-00-252-2270

NSN: 8340-00-252-2271

NSN: 8340-00-252-2273

NSN: 8340-00-252-2280

NSN: 8340-00-252-2282

NSN: 8340-00-252-2293

NSN: 8340-00-252-2297

>NSN: 8340-00-556-9689

Line, Tent, Manila

NSN: 8340-00-252-2285

NSN: 8340-00-252-2286

NSN: 8340-00-252-2299

NPA: ASPIRO, Inc., Green Bay, WI

Contracting Activity: Defense Logistics Agency Troop Support, Philadelphia, PA.

Highlighter, Biodegradable

NSN: 7520-01-578-9289

NPA: West Texas Lighthouse for the Blind, San Angelo, TX.

Contracting Activity: General Services Administration, New York, NY.

Detergent, Laundry

NSN: 7930-01-506-7081

NPA: East Texas Lighthouse for the Blind, Tyler, TX.

Contracting Activity: Defense Logistics Agency Troop Support, Philadelphia, PA.

Service

Service Type/Location: Grounds Maintenance, Naval & Marine Corps Reserve Center, 310 Troy Street, Dayton, OH.

NPA: Eastway Corporation, Dayton, OH.

Contracting Activity: Dept of the Navy, NSWC Crane, Crane, IN.

Patricia Briscoe,
Deputy Director, Business Operations (Pricing and Information Management).

[FR Doc. 2011-21243 Filed 8-18-11; 8:45 am]

BILLING CODE 6353-01-P